DEPARTMENT OF COMMERCE

National Oceanic and Atmospheric Administration

RIN 0648-XE286

New England Fishery Management Council; Public Meetings

AGENCY: National Marine Fisheries Service (NMFS), National Oceanic and Atmospheric Administration (NOAA), Commerce.

ACTION: Notice; public hearings.

SUMMARY: The New England Fishery Management Council (Council) will hold one public hearing and one webinar to solicit Public comments on Draft Amendment 19 to the Scallop Fishery Management Plan (FMP).

DATES: The webinar will be held on November 16, 2015 and the meeting will be held on November 18, 2015. For specific dates and times, see SUPPLEMENTARY INFORMATION. Written Public comments must be received on or before 5 p.m. EST, Friday, November 20, 2015.

ADDRESSES: The Public document can be obtained by contacting the New England Fishery Management Council, 50 Water Street, Mill 2, Newburyport, MA 01950 at (978) 465-0492 or on their Web site at http://www.nefmc.org/library/amendment-19-1.

Meeting address: These meetings will be held in Warwick, RI, and via webinar. For specific locations, see SUPPLEMENTARY INFORMATION.

Public comments: Mail to John K. Bullard, Regional Administrator, NMFS, Northeast Regional Office, 55 Great Republic Drive, Gloucester, MA 01930. Mark the outside of the envelope “Comments on Scallop Amendment 19”. Comments may also be sent via fax to (978) 281-9135 or submitted via email to nmfs.gar.Amendment19@ noaa.gov with “Comments on Scallop Amendment 19” in the subject line.

FOR FURTHER INFORMATION CONTACT: Thomas Nies, Executive Director, New England Fishery Management Council; telephone: (978) 465-0492.

SUPPLEMENTARY INFORMATION: The agendas for the following hearings are as follows: New England Fishery Management Council staff will brief the public on the scallop amendment and the contents of the Draft Environmental Assessment prior to opening the hearing for public comments. The schedule is as follows:

Public Hearings: Locations, Schedules, and Agendas

1. Monday, November 16, 2015, from 10 a.m.-12 p.m.; Webinar hearing, register to participate https://global.gotomeeting.com/join/682428445 Call in info: Toll: +1 (872) 240-3412, Access code 682-428-445.

2. Wednesday, November 18, 2015, from 6-8 p.m.; Radisson Airport Hotel, 2081 Post Road, Warwick, RI 02886; telephone: (401) 739-3000; fax: (401) 732-9300.

Special Accommodations

These meetings are physically accessible to people with disabilities. Requests for sign language interpretation or other auxiliary aids should be directed to Thomas Nies (see ADDRESSES), at least 5 working days prior to the meeting date.

Authority: 16 U.S.C. 1801 et seq.

Dated: October 28, 2015.
Jeffrey N. Lonergan,
Acting Deputy Director, Office of Sustainable Fisheries, National Marine Fisheries Service.

[FR Doc. 2015-27835 Filed 10-30-15; 8:45 am]

BILLING CODE 3510-22-P